DEPARTMENT OF HEALTH AND HUMAN SERVICES

Health Resources and Services Administration

General Notice.

AGENCY: Health Resources and Services Administration, HHS.

ACTION: General notice.

Background

This notice supplements the summer 2004 HRSA Preview which announced the availability of fiscal year (FY) 2005 funding for new and competing continuation applications for Healthy Start. Healthy Start, authorized under section 330H of the Public Health Service Act, strengthens communities to effectively address the causes of infant mortality, low birth weight and other poor perinatal outcomes for women and infants. Recently, new guidance became available with regards to funding FY 2005 Healthy Start programs.

SUMMARY: Following the Senate Committee's recommendation, the Health Resources and Services Administration (HRSA) will give funding preference during the FY 2005 competition to current and former Healthy Start grantees, including those whose Healthy Start grant application was approved but not funded in FY 2004.

Senate Report 108-345 at 54 (2004) accompanying the Consolidated Appropriations Act, 2005 (Pub. L. 108-447) states “The Committee urges HRSA to give preference to current and former grantees with expiring or recently expired project periods. This should include grantees whose grant applications were approved but not funded during fiscal year 2004.”

FOR FURTHER INFORMATION CONTACT: Maribeth Badura, Director, Division of Healthy Start and Perinatal Services, Maternal and Child Health Bureau, HRSA, Room 18-20, Parklawn Building, 5600 Fishers Lane, Rockville, Maryland 20857; telephone (301) 443-0543; e-mail MBadura@hrsa.gov.

Dated: March 14, 2005.
Elizabeth M. Duke,
Administrator.

[FR Doc. 05-5378 Filed 3-17-05; 8:45 am]

BILLING CODE 4165-15-P